DEPARTMENT OF LABOR

Employment and Training Administration

[TA-W-52,699]

Delphi Automotive Systems, Moraine, OH; Notice of Termination of Investigation

Pursuant to section 221 of the Trade Act of 1974, as amended, an investigation was initiated on August 28, 2003 in response to a worker petition filed by a union official on behalf of workers at Delphi Automotive Systems, Moraine, Ohio.

The petitioner has requested that the petition be withdrawn. Consequently, the investigation has been terminated.

Signed at Washington, DC this 3rd day of October, 2003.
Elliott S. Kushner,
Certifying Officer, Division of Trade Adjustment Assistance.

[FR Doc. 03-29377 Filed 11-24-03; 8:45 am]

BILLING CODE 4510-30-P